DEPARTMENT OF HOMELAND SECURITY

U.S. Customs and Border Protection

Notice of Cancellation of Customs Broker Licenses

AGENCY: U.S. Customs and Border Protection, U.S. Department of Homeland Security.

ACTION: General Notice.

SUMMARY: Pursuant to section 641 of the Tariff Act of 1930, as amended, (19 USC 1641) and the U.S. Customs and Border Protection regulations (19 CFR 111.51), the following Customs broker licenses and all associated permits are cancelled without prejudice.

Name | License No. | Issuing port
Ferrara International Logistics | 11930 | New York.
J.B. Fong & Co., Inc | 06461 | San Francisco.
Air 7 Seas Transport Logistics, Inc | 23081 | San Francisco.
Liberty Port Broker, Inc | 20911 | New York.
Sky Sea Forwarding Corp | 13261 | New York.
Contact Customs Clearance, Inc | 13467 | New York.
Legacy Worldwide Logistics, Inc | 22827 | New York.
Hellmuth Dieterle | 05289 | New York.

Dated: July 25, 2012.
Richard F. DiNucci,
Acting Assistant Commissioner, Office of International Trade.

[FR Doc. 2012-18739 Filed 7-31-12; 8:45 am]

BILLING CODE 9111-14-P